FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than October 10, 2019.

A. Federal Reserve Bank of Chicago (Colette A. Fried, Assistant Vice President) 230 South LaSalle Street, Chicago, Illinois 60690-1414:

1. Warren E. Hansen Jr., Delavan, Wisconsin, as managing member of 205 MacArthur, LLC; 205 MacArthur, LLC, Mukwonago, Wisconsin, together with Warren E. Hansen Jr. and Eunice N. Hansen, Delavan, Wisconsin, as trustees of the Warren E. Hansen and Eunice N. Hansen Joint Revocable Living Trust; the Warren E. Hansen and Eunice N. Hansen Joint Revocable Living Trust, Delavan, Wisconsin; Warren E. Hansen Jr., Delavan, Wisconsin, as Secretary of Caldwell Cemetery Association; and Caldwell Cemetery Association, Delavan, Wisconsin; as a group acting in concert, to retain 10 percent or more of the voting shares of Citizens Bank Holding, Inc., Mukwonago, Wisconsin, the parent holding company of Citizens Bank, also of Mukwonago, Wisconsin.

B. Federal Reserve Bank of Dallas (Robert L. Triplett III, Senior Vice President) 2200 North Pearl Street, Dallas, Texas 75201-2272:

1. Rick L. Campbell, Angela Campbell Koonce, James Campbell, Cameron McElroy and Collin McElroy, all of Center, Texas; as a group acting in concert (collectively the “Campbell Group”) to retain 25 percent or more of the voting shares of Shelby Bancshares, Inc. (the “Company”), the parent holding company of Shelby Savings Bank, SSB, both of Center, Texas; and by Rick L. Campbell, individually to acquire 10 percent or more of the voting shares of the Company.

Board of Governors of the Federal Reserve System, September 20, 2019.
Yao-Chin Chao,
Assistant Secretary of the Board.

[FR Doc. 2019-20900 Filed 9-25-19; 8:45 am]

BILLING CODE P